DEPARTMENT OF HEALTH AND HUMAN SERVICES

Administration for Children and Families

Proposed Information Collection Activity; Comment Request

Title: Culture of Continuous Learning Project: A Breakthrough Series Collaborative for Improving Child Care and Head Start Quality.

OMB No.: New Collection.

Description: The Office of Planning, Research and Evaluation (OPRE) in the Administration for Children and Families (ACF) is proposing an information collection activity for the Culture of Continuous Learning Project. The goal of the project is to assess the feasibility of implementing continuous quality improvement methods in early care and education programs to support the use and sustainability of evidence-based practices. A Breakthrough Series Collaborative (BSC), a specific model designed to support learning and improvement among practitioners at all levels of an organization, will be implemented in Head Start and child care settings. The BSC methodology has not been tested rigorously in early care and education programs, but has been studied in health care and other fields. The findings will be of broad interest to child care early education programs as well as training and technical assistance providers and researchers, all of whom are interested in improving the quality of services young children receive.

Head Start and child care programs that voluntarily participate in the BSC will be asked to complete a number of implementation tools as part of the BSC activities. Data collection for the feasibility study will involve focus groups, online surveys, direct observation, and document review.

Respondents: Up to 18 early childhood centers will be invited to express interest in participating in the BSC. Up to 8 centers will be selected to participate in the BSC and feasibility study. Core BSC Teams consisting of up to 6 individuals (e.g., directors, lead teachers, assistant teachers, teacher aides, parents, curriculum specialists, etc.) each from four Early Head Start or Head Start programs and four child care programs in a selected geographic location (for a total of 48 individuals); and up to 24 additional teachers or program staff at the same centers who are not part of the Core BSC Team.

Annual Burden Estimates
Instrument | Total number of respondents | Annual number of respondents | Number of responses per respondent | Average burden hours per response | Annual burden hours
BSC Selection Questionnaire | 18 | 9 | 1 | 1 | 9
Pre-Work Assignment: Team Building Activities | 48 | 24 | 1 | 1 | 24
Pre-Work Assignment: Data Collection Planning Worksheet | 16 | 8 | 1 | 2 | 16
Plan, Do, Study, Act Planning Form & Tracker | 48 | 24 | 48 | .25 | 288
Discussion Forum Prompts | 48 | 24 | 48 | .25 | 288
Learning Session Day 1 Evaluation | 48 | 24 | 4 | .17 | 16
Learning Session Overall Evaluation | 48 | 24 | 4 | .25 | 24
Action Planning Form | 48 | 24 | 4 | .25 | 24
Teaching Pyramid Observation Tool (TPOT)/Teaching Pyramid Infant-Toddler Observation Scale (TPITOS) | 28 | 14 | 2 | .33 | 9
Early Childhood Work Environment Survey (ECWES) | 72 | 36 | 2 | .25 | 18
Pre/Post Survey | 72 | 36 | 2 | .68 | 49
Self-report of BSC Activities | 72 | 36 | 1 | .17 | 6
Core BSC Team Focus Group Topic Guide | 48 | 24 | 1 | 1.25 | 30

Estimated Total Annual Burden Hours: 801.

Additional Information: Copies of the proposed collection may be obtained by writing to the Administration for Children and Families, Office of Planning, Research and Evaluation, 330 C Street SW., Washington, DC 20201, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Mary Jones,
ACF/OPRE Certifying Officer.

[FR Doc. 2017-23970 Filed 11-2-17; 8:45 am]

BILLING CODE 4184-23-P